DEPARTMENT OF VETERANS AFFAIRS

38 CFR Part 17

RIN 2900-AL18

Filipino Veterans Eligible for Hospital Care, Nursing Home Care, and Medical Services

AGENCY: Department of Veterans Affairs.

ACTION: Final rule.

SUMMARY: This document amends VA's “Medical” regulations to add provisions implementing statutory changes providing that certain Filipino veterans in receipt of disability compensation at the full dollar rate are eligible for hospital care, nursing home care, and medical services in the same manner as a veteran.

DATES: Effective Date: June 17, 2002.

FOR FURTHER INFORMATION CONTACT: Roscoe Butler at (202) 273-8302, Chief, Policy and Operations, Health Administration Services, Veterans Health Administration, 810 Vermont Ave., NW., Washington, DC 20420, (This is not a toll-free telephone number).

SUPPLEMENTARY INFORMATION: This document amends VA's “Medical” regulations in 38 CFR part 17 to add provisions implementing statutory changes made by Public Law 106-377, the Department of Veterans Affairs and Housing and Urban Development, and Independent Agencies Appropriation Act, 2001. This act amended 38 U.S.C. 1734 to provide that the following Filipino veterans who are citizens of the United States, or aliens lawfully admitted for permanent residence in the United States, and who are in receipt of disability compensation under 38 U.S.C. Chapter 11, subchapter II or IV, are eligible for hospital care, nursing home care, and medical services in the same manner as a veteran:

Filipino veterans who had service before July 1, 1946, in the organized military forces of the Government of the Commonwealth of the Philippines, while such forces were in the service of the Armed Forces of the United States under the military order of the President dated July 26, 1941, including among such military forces organized guerrilla forces under commanders appointed, designated, or subsequently recognized by the Command in Chief, Southwest Pacific Area, or other competent authority in the Army of the United States.

On December 27, 2001, VA established regulations setting forth provisions for certain Filipino veterans who are citizens of the United States, or aliens lawfully admitted for permanent residence in the United States, to receive disability compensation at the full dollar rate (66 FR 66763). A Filipino veteran receiving VA disability compensation at the full dollar rate as set forth in 38 CFR 3.42 would necessarily meet all of the requirements to be eligible for hospital care, nursing home care, and medical services in the same manner as a veteran. Conversely, a Filipino veteran not receiving disability compensation at the full dollar rate as set forth in 38 CFR 3.42, would not meet all of the requirements to be eligible for such care. Accordingly, we have added a new § 17.39 to state that Filipino veterans receiving disability compensation at the full dollar value under § 3.42 are eligible for hospital care, nursing home care, and medical services in the same manner as a veteran.

5 U.S.C. 553

This final rule is published without regard to the notice and comment and delayed effective date provisions of 5 U.S.C. 553 since it reflects statutory changes and incorporates other provisions already required to be met for eligibility for benefits.

Paperwork Reduction Act

This document contains no provisions constituting a collection of information under the Paperwork Reduction Act (44 U.S.C. 3501-3520).

Executive Order 12866

This document has been reviewed by the Office of Management and Budget under Executive Order 12866.

Regulatory Flexibility Act

The Secretary of Veterans Affairs hereby certifies that this final rule will not have a significant economic impact on a substantial number of small entities as they are defined in the Regulatory Flexibility Act, 5 U.S.C. 601-612. The final rule would have a direct effect only on individuals and would not have any measurable effect on small entities. Accordingly, pursuant to 5 U.S.C. 605(b), this final rule is exempt from the initial and final regulatory flexibility analysis requirements of sections 603 and 604.

Catalog of Federal Domestic Assistance

The Catalog of Federal Domestic Assistance numbers for the programs affected by this rule are 64.005, 64.007.64.008, 64,009, 64.010, 64.011, 64.012, 64.013, 64.014, 64.015, 64.016, 64.018, 64.019, 64.022, and 64.025.

List of Subjects in 38 CFR Part 17

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Philippines, Reporting and recordkeeping requirements, Scholarships and fellowships, Travel and transportation expenses, Veterans.

Approved: April 8, 2002.
Anthony J. Principi,
Secretary of Veterans Affairs.

For the reasons set out in the preamble, 38 CFR chapter I is amended as set forth below.

PART 17—MEDICAL

1. The authority citation for part 17 continues to read as follows:

Authority: 38 U.S.C. 501, 1721, unless otherwise noted.

2. A new § 17.39 is added to read as follows:

§ 17.39 Certain Filipino veterans.

Filipino veterans receiving disability compensation at the full dollar value under § 3.42 of this chapter are eligible for hospital care, nursing home care, and medical services in the same manner as a veteran.

(Authority: 38 U.S.C. 501, 1734)

[FR Doc. 02-15164 Filed 6-14-02; 8:45 am]

BILLING CODE 8320-01-P